DEPARTMENT OF THE INTERIOR

Bureau of Land Management

[LLNML00000 L16100000.DP0000]

Notice of Intent To Prepare an Amendment to the Mimbres Resource Management Plan (RMPA), and Associated Environmental Assessment (EA), Las Cruces District Office, New Mexico

AGENCY: Bureau of Land Management (BLM), Interior.

ACTION: Notice of intent.

SUMMARY: The BLM Las Cruces District Office, New Mexico, intends to prepare an RMPA with an associated EA to analyze the possible disposal by either exchange or sale, of BLM-administered public lands in Grant County in southwestern New Mexico.

DATES: This Notice initiates the 30-day public scoping period to identify relevant issues. The scoping period will also be announced through local news media and on the BLM Web site (http://www.blm.gov/nm). The BLM will accept scoping comments for 30 days from the date of the publication of this Notice.

ADDRESSES: You may submit comments by any of the following methods:

• E-mail: nm_comments@nm.blm.gov.

• Fax: 575-525-4412, Attention: Jennifer Montoya.

• Mail or personal delivery: District Manager, BLM Las Cruces District Office, 1800 Marquess Street, Las Cruces, NM 88005.

Documents pertinent to this proposal may be examined at the Las Cruces District Office at the above address.

FOR FURTHER INFORMATION CONTACT: Jennifer Montoya, Planning and Environmental Coordinator, at the Las Cruces District Office; Telephone 575-525-4316; or e-mail at Jennifer_Montoya@nm.blm.gov.

SUPPLEMENTARY INFORMATION: This document provides notice that the BLM Las Cruces District Office, Las Cruces, New Mexico, intends to prepare an RMPA with an associated EA for the Mimbres Planning Area and announces the beginning of the scoping process and seeks public input on issues and planning criteria.

The BLM is currently considering disposal of public lands in Grant County, New Mexico, and the exact acreage and legal descriptions will be determined by a Cadastral survey. The public lands proposed for disposal are currently identified for retention in Federal ownership in the 1993 Mimbres RMP. Therefore, the RMP must be amended to identify the public lands as suitable for exchange and/or sale. These public lands are a portion of and within the following areas:

New Mexico Principal Meridian

T. 17 S., R. 12 W.,

Secs. 3, 4, 9, 10, 15, 16, 20, 24 and 31.

T. 17 S., R. 11 W.,

Secs. 19 and 20.

T. 19 S., R. 15 W.,

Secs. 8, 16, 17, 21, 27 and 28.

The purpose of the public scoping process is to determine relevant issues that will influence the scope of the environmental analysis, including alternatives, and guide the planning process. Preliminary issues for the planning area have been identified by the BLM personnel, other agencies, and in meetings with individuals and user groups. These issues are:

1. Should public lands adjacent to the Gila National Forest be identified for disposal? If so, which public lands?

2. What potential impacts would this proposed action have on the Gila National Forest?

3. What effects would this proposed action have on mining in the area?

Proposed planning criteria include the following:

1. The RMPA/EA process will be in compliance with the Federal Land Policy and Management Act, the National Environmental Policy Act, and applicable laws, regulations, and policies.

2. The land use plan amendment process will be governed by the planning regulations at 43 CFR 1610 and the BLM Land Use Planning Handbook H-1601-1.

3. Lands affected by the proposed plan amendment only apply to public surface and mineral estate managed by the BLM. No decisions will be made relative to non-BLM-administered lands or non-Federal minerals.

4. Public participation will be an integral part of the planning process.

5. The plan amendment will recognize all valid existing rights.

6. The RMPA/EA will strive to be consistent with existing non-Federal plans and policies, provided the decisions in the existing plans are consistent with the purposes, policies, and programs of the BLM and other Federal laws. The RMPA will consider present and potential uses of public lands.

7. The RMPA will consider impacts of uses on adjacent or nearby non-Federal lands and on non-Federal land surface over Federally-owned minerals.

The public may submit comments on issues and planning criteria in writing directly to the BLM using one of the methods listed in the ADDRESSES section above. Comments should be submitted within 30 days from the date of the publication of this Notice. Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

The BLM will evaluate identified issues to be addressed in the plan amendment and will place them into one of three categories:

1. Issues to be resolved in the plan amendment;

2. Issues to be resolved through policy or administrative action; or

3. Issues beyond the scope of this plan amendment.

The BLM will provide an explanation in the plan amendment as to why an issue was placed in category two or three. The public is also encouraged to help identify any management questions and concerns that should be addressed in the plan amendment.

The BLM will work collaboratively with interested parties to identify the management decisions that are best suited to local, regional, and national needs and concerns. The BLM will use an interdisciplinary approach to develop the plan amendment in order to consider the variety of resource issues and concerns identified. Specialists with expertise in the following disciplines will be involved in the planning process: minerals and geology, outdoor recreation, archaeology, paleontology, wildlife and fisheries, lands and realty, hydrology, soils, water and air.

Linda S.C. Rundell,
State Director.

[FR Doc. E8-29443 Filed 12-11-08; 8:45 am]

BILLING CODE 4310-VC-P